COMMODITY FUTURES TRADING COMMISSION

Agency Information Collection Activities: Notice of Intent To Renew Collection 3038-0062, Regulation Pertaining to Financial Integrity of the Forex Market Place

AGENCY: Commodity Futures Trading Commission.

ACTION: Notice.

SUMMARY: The Commodity Futures Trading Commission (Commission or CFTC) is announcing an opportunity for public comment on the proposed collection of certain information by the agency. Under the Paperwork Reduction Act of 1995 (“PRA”), Federal agencies are required to publish notice in the Federal Register concerning each proposed collection of information, including each proposed extension of an existing collection of information, and to allow 60 days for public comment in response to the notice. This notice solicits comments on requirements relating to reporting by retail foreign exchange dealers who fail to maintain required capital, reporting to customers, risk assessment filings and recordkeeping requirements.

DATES: Comments must be submitted on or before December 1, 2014.

ADDRESSES: You may submit comments, identified by “Regulation Pertaining to Financial Integrity of the Forex Market Place” by any of the following methods:

• The Agency's Web site, at http://comments.cftc.gov. Follow the instructions for submitting comments through the Web site.

• Mail: Christopher Kirkpatrick, Secretary of the Commission, Commodity Futures Trading Commission, Three Lafayette Centre, 1155 21st Street NW., Washington, DC 20581.

• Hand Delivery/Courier: Same as Mail, above.

• Federal eRulemaking Portal: http://www.regulations.gov/search/index.jsp. Follow the instructions for submitting comments through the Portal. Please submit your comments using only one method.

All comments must be submitted in English, or if not, accompanied by an English translation. Comments will be posted as received to http://www.cftc.gov. You should submit only information that you wish to make available publicly. If you wish the Commission to consider information that you believe is exempt from disclosure under the Freedom of Information Act, a petition for confidential treatment of the exempt information may be submitted according to the procedures established in § 145.9 of the Commission's regulations.¹

¹ 17 CFR 145.9.

The Commission reserves the right, but shall have no obligation, to review, pre-screen, filter, redact, refuse or remove any or all of your submission from http://www.cftc.gov that it may deem to be inappropriate for publication, such as obscene language. All submissions that have been redacted or removed that contain comments on the merits of the ICR will be retained in the public comment file and will be considered as required under the Administrative Procedure Act and other applicable laws, and may be accessible under the Freedom of Information Act.

Comments may also be submitted to the Office of Management and Budget (OMB), Office of Information and Regulatory Affairs, Attention: Desk Officer for CFTC, 725 17th Street NW., Washington, DC 20503; or Fax: 202-395-5806.

FOR FURTHER INFORMATION CONTACT: Mark Bretscher, Division of Swap Dealer and Intermediary Oversight, Commodity Futures Trading Commission, 525 W. Monroe, Suite 1100, Chicago, IL 60661; (312) 596-0529; email: mbretscher@cftc.gov, and refer to OMB Control No. 3038-0062.

SUPPLEMENTARY INFORMATION: Under the PRA, Federal agencies must obtain approval from OMB for each collection of information they conduct or sponsor. “Collection of Information” is defined in 44 U.S.C. 3502(3) and 5 CFR 1320.3 and includes agency requests or requirements that members of the public submit reports, keep records, or provide information to a third party. Section 3506(c)(2)(A) of the PRA, 44 U.S.C. 3506(c)(2)(A), requires Federal agencies to provide a 60-day notice in the Federal Register concerning each proposed collection of information before submitting the collection to OMB for approval. To comply with this requirement, the CFTC is publishing notice of the proposed collection of information listed below.

Title: Regulation Pertaining to Financial Integrity of the Forex Market Place.

Abstract: Pursuant to Amendments to the Commodity Exchange Act found in the Food, Conservation, and Energy Act of 2008, Public Law 110-246, 122 Stat. 1651, 2189-2204 (2008), the Commission promulgated a comprehensive set of rules applicable to intermediaries and counterparties engaged in the offer and sale of off-exchange forex contracts to retail customers. New requirements under Part 5 included reporting by retail foreign exchange dealers who fail to maintain required capital, reporting to customers, risk assessment filings and recordkeeping requirements.

Burden Statement: The respondent burden for this collection is estimated to be 0.87 hours per response.

Respondents/Affected Entities: Retail Foreign Exchange Dealers, Futures Commission Merchants, Introducing Brokers, and other counterparties to forex transactions.

Estimated Number of Respondents: 60.

Estimated Total Annual Burden on Respondents: 2830 hours.

Frequency of Collection: Annual and on occasion.

Dated: September 25, 2014.
Christopher J. Kirkpatrick,
Secretary of the Commission.

[FR Doc. 2014-23263 Filed 9-29-14; 8:45 am]

BILLING CODE 6351-01-P